DEPARTMENT OF ENERGY

Federal Energy Regulatory Commission

[Project No. 10721-033]

Big Creek Lodge & Outfitters Inc.; Idaho Aviation Foundation; Notice of Application for Transfer of License and Soliciting Comments, Motions To Intervene, and Protests

On April 28, 2020, J Curtis Earl Idaho Aviation Foundation Inc., dba Idaho Aviation Foundation (transferee) filed an application for an after-the-fact transfer of license of the Big Creek Hydroelectric Project No. 10721. The project is located on McCorkle Creek, in Valley County, Idaho, and within the Payette National Forest.

The applicant seeks Commission approval to transfer the license for the Big Creek Hydroelectric Project from Big Creek Lodge & Outfitters Inc. (transferor) to the transferee. The Big Creek Lodge tragically burned to the ground in October 2008 and Idaho Aviation Foundation purchased the assets of Big Creek Lodge & Outfitters Inc. including the hydropower project.

Applicant's Contacts: Vic Jaro, Idaho Aviation Foundation, Board Member, 1297 Quail Hollow, Buhl, ID 83316, Phone: (208) 404-9627; Email: info@idahoaviationfoundation.org and Nadine Burak, Secretary/Treasurer, P.O. Box 2016, Eagle, ID 83616.

FERC Contact: Anumzziatta Purchiaroni, (202) 502-6191, anumzziatta.purchiaroni@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-10721-033.

Dated: June 1, 2020.
Nathaniel J. Davis, Sr.,
Deputy Secretary.

[FR Doc. 2020-12233 Filed 6-4-20; 8:45 am]

BILLING CODE 6717-01-P